DEPARTMENT OF EDUCATION

[Docket No. ED-2021-SCC-0035]

Agency Information Collection Activities; Submission to the Office of Management and Budget for Review and Approval; Comment Request; FOLLOW-UP SURVEYS TO THE 2020-21 NTPS: 2021-22 Teacher Follow-Up Survey (TFS) and 2021-22 Principal Follow-Up

AGENCY: Institute of Educational Sciences (IES), Department of Education (ED).

ACTION: Notice.

SUMMARY: In accordance with the Paperwork Reduction Act of 1995, ED is proposing a reinstatement without change of a previously approved collection.

DATES: Interested persons are invited to submit comments on or before June 17, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: FOLLOW-UP SURVEYS TO THE 2020-21 NTPS: 2021-22 Teacher Follow-Up Survey (TFS) and 2021-22 Principal Follow-Up.

OMB Control Number: 1850-0617.

Type of Review: A reinstatement without change of a previously approved collection.

Respondents/Affected Public: Individuals and Households.

Total Estimated Number of Annual Responses: 25,688.

Total Estimated Number of Annual Burden Hours: 5,136.

Abstract: This request is to conduct data collection for the two follow-up surveys to the 2020-21 National Teacher and Principal Survey (NTPS)—the 2021-22 Teacher Follow-up Survey (TFS) and the 2021-22 Principal Follow-up Survey (PFS). The 2021-22 TFS is a one-year follow up of a subsample of teachers who responded to the 2020-21 NTPS, and the 2021-22 PFS is a one-year follow up of principals who responded to the 2020-21 NTPS. TFS and PFS are conducted by the National Center for Education Statistics (NCES), of the Institute of Education Sciences (IES), within the U.S. Department of Education (ED). The 2021-22 TFS and 2021-22 PFS, like earlier TFS and PFS collections, will measure the one-year attrition rates of teachers and principals, respectively, who leave the profession and will permit comparisons of stayers, movers, and leavers to fulfill the legislative mandate for NCES to report on the “condition of education in the United States.” “Stayers” are teachers or principals who remain in the same school between the NTPS year of data collection and the follow-up year. “Movers” are teachers or principals who stay in the profession but change schools between the NTPS year and the follow-up year. “Leavers” are NTPS respondents who leave the teaching or principal profession between the NTPS year and the follow-up year. The 2021-22 TFS analysis file will include TFS data in addition to data collected in the 2020-21 NTPS on teacher characteristics, qualifications, perceptions of the school environment and the teaching profession, and a host of other topics. Prior TFS data have played an important role in improving the understanding of teacher supply and demand and the conditions that affect the balance between the two. NTPS and TFS provide national data on turnover in the teacher workforce, including rates of entry and attrition from teaching, sources and characteristics of newly hired teachers, and characteristics and destinations of Leavers. These data help shift the debate from the issue of teacher quantity to teacher quality; that is, from a focus on teacher shortages measured in terms of the numbers of teaching positions left vacant to the qualifications of teachers who are hired and retained to fill teaching positions. The cross-sectional repeated design of TFS allows the analysis of trends related to these topics. The 2021-22 PFS analysis file will include PFS data in addition to data on principal characteristics, qualifications, and perceptions of the school environment from data collected in the 2020-21 NTPS. Together, NTPS and PFS will provide national data on turnover in the principal workforce, including rates of entry and attrition from principalship, sources and characteristics of newly hired principals, characteristics and destinations of leavers, and thanks to the cross-sectional repeated design of PFS, analyses of trends related to these topics. This clearance request is to conduct both 2021-22 NTPS follow-up surveys (TFS and PFS), including all recruitment and data collection activities. This request seeks authorization for 2021-22 TFS and 2021-22 PFS under the TFS single OMB number (OMB# 1850-0617).

Dated: May 13, 2021.
Stephanie Valentine,
PRA Coordinator, Strategic Collections and Clearance, Governance and Strategy Division, Office of Chief Data Officer, Office of Planning, Evaluation and Policy Development.

[FR Doc. 2021-10430 Filed 5-17-21; 8:45 am]

BILLING CODE 4000-01-P